POSTAL SERVICE

39 CFR Part 111

Indemnity Claims for Domestic Mail

AGENCY: Postal Service.

ACTION: Delay of effective date of final rule.

SUMMARY: The effective date of October 1, 2003, for changes to domestic indemnity claims regulations published in the Federal Register on September 2, 2003 (Vol. 68, No. 169, pages 52100-52104) is delayed until further notice. As a result, 39 CFR part 111 is not amended at this time.

DATES: This delay is effective upon publication.

SUPPLEMENTARY INFORMATION: The Postal Service will issue a further document regarding the effective date of these policy and procedure changes.

Neva R. Watson,
Attorney, Legislative, Office of Legal Policy and Ratemaking Law.

[FR Doc. 03-24915 Filed 9-30-03; 8:45 am]

BILLING CODE 7710-12-P